Title 3—

The President

Executive Order 13268 of July 2, 2002

Termination of Emergency With Respect to the Taliban and Amendment of Executive Order 13224 of September 23, 2001

By the authority vested in me as President by the Constitution and the laws of the United States of America, including the International Emergency Economic Powers Act (50 U.S.C. 1701 et seq.), the National Emergencies Act (50 U.S.C. 1601 et seq.) (NEA), section 5 of the United Nations Participation Act of 1945, as amended (22 U.S.C. 287c), and section 301 of title 3, United States Code,

I, GEORGE W. BUSH, President of the United States of America, find that the situation that gave rise to the declaration of a national emergency in Executive Order 13129 of July 4, 1999, with respect to the Taliban, in allowing territory under its control in Afghanistan to be used as a safe haven and base of operations for Usama bin Ladin and the Al-Qaida organization, has been significantly altered given the success of the military campaign in Afghanistan, and hereby revoke that order and terminate the national emergency declared in that order with respect to the Taliban. At the same time, and in order to take additional steps with respect to the grave acts of terrorism and threats of terrorism committed by foreign terrorists, the continuing and immediate threat of further attacks on United States nationals or the United States, and the national emergency described and declared in Executive Order 13224 of September 23, 2001, I hereby order:

Section 1. The Annex to Executive Order 13224 of September 23, 2001, is amended by adding thereto the following persons in appropriate alphabetical order:

Mohammed Omar (aka, Amir al-Mumineen [Commander of the Faithful])

The Taliban.

Sec. 2. For the purposes of this order and Executive Order 13224 of September 23, 2001, the term “the Taliban” is also known as the “Taleban,” “Islamic Movement of Taliban,” “the Taliban Islamic Movement,” “Talibano Islami Tahrik,” and “Tahrike Islami'a Taliban”. The Secretary of State, in consultation with the Secretary of the Treasury, is hereby authorized to modify the definition of the term “the Taliban,” as appropriate.

Sec. 3. Nothing contained in this order shall create any right or benefit, substantive or procedural, enforceable by any party against the United States, its agencies or instrumentalities, its officers or employees, or any other person.

Sec. 4. Pursuant to section 202 of the NEA (50 U.S.C. 1622), termination of the national emergency with respect to the Taliban shall not affect any action taken or proceeding pending not finally concluded or determined as of the date of this order, or any action or proceeding based on any act committed prior to the date of this order, or any rights or duties that matured or penalties that were incurred prior to the date of this order.

B

THE WHITE HOUSE,

July 2, 2002.

[FR Doc. 02-16951

Filed 7-2-02; 11:09 am]

Billing code 3195-01-P